DEPARTMENT OF DEFENSE

Office of the Inspector General

Privacy Act of 1974; System of Records

AGENCY: Office of the Inspector General, DoD.

ACTION: Notice to delete systems of records.

SUMMARY: The Office of the Inspector General, DoD, is deleting a system of records notice from its existing inventory of record systems subject to the Privacy Act of 1974 (5 U.S.C. 552a), as amended.

DATES: This proposed action will be effective without further notice on July 28, 2003 unless comments are received which result in a contrary determination.

ADDRESSES: Send comments to Office of the Inspector General, Department of Defense, 400 Army Navy Drive, Room 201, Arlington, VA 22202-4704.

FOR FURTHER INFORMATION CONTACT: Mr. Darryl R. Aaron at (703) 604-9785.

SUPPLEMENTARY INFORMATION: The Office of the Inspector General, DoD, systems of records notices subject to the Privacy Act of 1974, (5 U.S.C. 552a), as amended, have been published in the Federal Register and are available from the address above.

The specific changes to the records systems being amended are set forth below followed by the notices, as amended, published in their entirety. The proposed amendments are not within the purview of subsection (r) of the Privacy Act of 1974, (5 U.S.C. 552a), as amended, which requires the submission of a new or altered system report.

Dated: June 18, 2003.
Patricia L. Toppings,
Alternate OSD Federal Register Liaison Officer, Department of Defense.

CIG-14

System name:

Auditor and Inspector Log (February 22, 1993, 58 FR 10213).

Reason:

Records are now being maintained in the system of records CIG-20, entitled `Defense Audit Management Information System (DAMIS)’ published November 29, 2002, at 67 FR 71151.

[FR Doc. 03-16128 Filed 6-25-03; 8:45 am]

BILLING CODE 5001-08-P